NATIONAL FOUNDATION FOR THE ARTS AND THE HUMANITIES

Institute of Museum and Library Services

Notice of Proposed Information Collection Requests: IMLS Evaluation of Four Grant Programs Serving Native American, Native Hawaiian, and Alaska Native Communities

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments about the proposed IMLS evaluation of four specific grant programs: The Native American Library Services: Basic Grants; Native American Library Services: Enhancement Grants; Native American/Native Hawaiian Museum Services; and Native Hawaiian Library Services. The purpose of the evaluation will be to determine how well the agency's grant-making aligns with the needs of communities served by these specific programs; to lay a foundation for improving the quality, reach, and impact of the agency's grant programs in the future; and to inform increasing organizational capacity of eligible applicants to submit high-quality grant applications and of awardees to successfully complete their award responsibilities.

A copy of the proposed information collection request can be obtained by contacting the individual listed below in the ADDRESSES section of this Notice.

DATES: Written comments must be submitted to the office listed in the ADDRESSES section below on or before March 14, 2022.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except Federal holidays.

Persons who are deaf or hard of hearing (TTY users) can contact IMLS at 202-207-7858 via 711 for TTY-Based Telecommunications Relay Service.

FOR FURTHER INFORMATION CONTACT: Matthew Birnbaum, Ph.D., Supervising Social Scientist, Office of Research and Evaluation, Institute of Museum and Library Services, 955 L'Enfant Plaza North SW, Suite 4000, Washington, DC 20024-2135. Dr. Birnbaum can be reached by telephone at 202-653-4760, or by email at mbirnbaum@imls.gov.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grant making, research, and policy development. To learn more, visit www.imls.gov.

II. Current Actions

IMLS began making awards to improve core services in Native American and Native Hawaiian libraries in 1998 and to sustain heritage, culture, and knowledge in Native American and Native Hawaiian communities through museum services in 2005. The proposed evaluation of IMLS's four grant programs specifically designed and congressionally mandated to serve Native American, Native Hawaiian, and Alaska Native communities will be the first comprehensive consideration of this suite of grant programs. The evaluation will employ a mixed methods approach to assess the fit between these IMLS grant programs and the expressed needs of the communities they are serving; identify gaps in reaching potential grant applicants; examine the differences among those who apply and are funded, those who apply and are not funded, and those who do not apply; assess the impact of IMLS's grant programs on awardees; and assess the performance of IMLS as a federal grant-maker and how well it aligns with White House and Congressional priorities.

Agency: Institute of Museum and Library Services.

Title: IMLS Evaluation of Four Grant Programs Serving Native American, Native Hawaiian, and Alaska Native Communities.

OMB Control Number: 3137-NEW.

Agency Number: 3137.

Respondents/Affected Public: Museum and library professionals working at organizations that have sought or would like to seek public funding through IMLS's grant programs serving Native American, Native Hawaiian, and Alaska Native communities.

Total Estimated Number of Annual Respondents: 250.

Frequency of Response: Once per request.

Average Minutes per Response: TBD.

Total Estimated Number of Annual Burden Hours: TBD.

Cost Burden (dollars): TBD.

Public Comments Invited: Comments submitted in response to this Notice will be summarized and/or included in the request for OMB's clearance of this information collection.

Dated: January 10, 2022.
Suzanne Mbollo,
Grants Management Specialist, Institute of Museum and Library Services.

[FR Doc. 2022-00647 Filed 1-13-22; 8:45 am]

BILLING CODE 7036-01-P